DEPARTMENT OF ENERGY

Federal Energy Regulatory Commission

Combined Notice of Filings #1

Take notice that the Commission received the following electric corporate filings:

Docket Numbers: EC19-83-000.

Applicants: Michigan Electric Transmission Company, Consumers Energy Company.

Description: Joint Application for Authorization Under Section 203 of the Federal Power Act, et al. of Michigan Electric Transmission Company, LLC, et al.

Filed Date: 4/30/19.

Accession Number: 20190430-5173.

Comments Due: 5 p.m. ET 5/21/19.

Take notice that the Commission received the following electric rate filings:

Docket Numbers: ER10-1915-010; ER10-1963-010.

Applicants: Bayswater Peaking Facility, LLC, Jamaica Bay Peaking Facility, LLC.

Description: Notification of Change in Status of Bayswater Peaking Facility, LLC, et al.

Filed Date: 4/29/19.

Accession Number: 20190429-5343.

Comments Due: 5 p.m. ET 5/20/19.

Docket Numbers: ER13-1589-004.

Applicants: RockGen Energy LLC.

Description: Compliance filing: Informational Filing Regarding Upstream Change in Control to be effective N/A.

Filed Date: 4/30/19.

Accession Number: 20190430-5185.

Comments Due: 5 p.m. ET 5/21/19.

Docket Numbers: ER15-2735-005.

Applicants: Garrison Energy Center LLC.

Description: Compliance filing: Informational Filing Regarding Upstream Change in Control and Request for Waiver to be effective N/A.

Filed Date: 4/30/19.

Accession Number: 20190430-5183.

Comments Due: 5 p.m. ET 5/21/19.

Docket Numbers: ER19-1201-000.

Applicants: Midcontinent Independent System Operator, Inc., Ameren Illinois Company.

Description: Report Filing: 2019-04-29_SA 2004 Ameren-City of Kahoka 1st Rev WDS Supplement to be effective N/A.

Filed Date: 4/29/19.

Accession Number: 20190429-5263.

Comments Due: 5 p.m. ET 5/20/19.

Docket Numbers: ER19-1365-001.

Applicants: Midcontinent Independent System Operator, Inc.

Description: Tariff Amendment: 2019-04-30_SA 3268_Astoria Substation BSSB In Out Sub MPFCA (J493 J510) OTP NSP to be effective 3/19/2019.

Filed Date: 4/30/19.

Accession Number: 20190430-5226.

Comments Due: 5 p.m. ET 5/10/19.

Docket Numbers: ER19-1367-001.

Applicants: Midcontinent Independent System Operator, Inc.

Description: Tariff Amendment: 2019-04-30_SA 3270 Johnson Junction-Ortonville Line Sub MPFCA (J493 J526) OTP to be effective 3/19/2019.

Filed Date: 4/30/19.

Accession Number: 20190430-5286.

Comments Due: 5 p.m. ET 5/10/19.

Docket Numbers: ER19-1690-000.

Applicants: California Independent System Operator Corporation.

Description: Compliance filing: 2019-04-26 Petition for Limited Tariff Waiver—Calculate EFC Values for PDR to be effective N/A.

Filed Date: 4/26/19.

Accession Number: 20190426-5216.

Comments Due: 5 p.m. ET 5/10/19.

Docket Numbers: ER19-1718-000.

Applicants: Duke Energy Florida, LLC.

Description: § 205(d) Rate Filing: DEF IA Annual Cost Factor Update (2019) to be effective 5/1/2019.

Filed Date: 4/30/19.

Accession Number: 20190430-5022.

Comments Due: 5 p.m. ET 5/21/19.

Docket Numbers: ER19-1719-000.

Applicants: Virginia Electric and Power Company, PJM Interconnection, L.L.C.

Description: § 205(d) Rate Filing: Dominion submits a WDSA, Service Agreement No. 5304 with Gloucester Solar to be effective 4/8/2019.

Filed Date: 4/30/19.

Accession Number: 20190430-5074.

Comments Due: 5 p.m. ET 5/21/19.

Docket Numbers: ER19-1720-000.

Applicants: New England Power Pool Participants Committee.

Description: § 205(d) Rate Filing: May 2019 Membership Filing to be effective 4/1/2019.

Filed Date: 4/30/19.

Accession Number: 20190430-5237.

Comments Due: 5 p.m. ET 5/21/19.

Docket Numbers: ER19-1721-000.

Applicants: Public Service Company of Colorado.

Description: § 205(d) Rate Filing: 20190430_Non-conforming Market Based Rate Agreement to be effective 7/1/2019.

Filed Date: 4/30/19.

Accession Number: 20190430-5242.

Comments Due: 5 p.m. ET 5/21/19.

Docket Numbers: ER19-1722-000.

Applicants: Duke Energy Carolinas, LLC.

Description: § 205(d) Rate Filing: DEC-Revised Rate Schedule Nos 329 and 333 (Towns of Prosperity and Due West, SC) to be effective 1/1/2018.

Filed Date: 4/30/19.

Accession Number: 20190430-5274.

Comments Due: 5 p.m. ET 5/21/19.

Docket Numbers: ER19-1723-000.

Applicants: Wisconsin Electric Power Company.

Description: Tariff Cancellation: Notice of Cancellation to be effective 4/1/2019.

Filed Date: 4/30/19.

Accession Number: 20190430-5276.

Comments Due: 5 p.m. ET 5/21/19.

Docket Numbers: ER19-1724-000.

Applicants: Duke Energy Carolinas, LLC.

Description: § 205(d) Rate Filing: DEC-Central EPC (RS No. 336) Revised PPA to be effective 1/1/2018.

Filed Date: 4/30/19.

Accession Number: 20190430-5282.

Comments Due: 5 p.m. ET 5/21/19.

Docket Numbers: ER19-1725-000.

Applicants: Pacific Gas and Electric Company.

Description: § 205(d) Rate Filing: Q1 2019 Quarterly Filing of City and County of San Francisco's WDT SA (SA 275) to be effective 3/31/2019.

Filed Date: 4/30/19.

Accession Number: 20190430-5284.

Comments Due: 5 p.m. ET 5/21/19.

Docket Numbers: ER19-1726-000.

Applicants: Southwest Power Pool, Inc.

Description: § 205(d) Rate Filing: 3549 WAPA & Minnkota Power Coop Interconnection Agreement to be effective 4/26/2019.

Filed Date: 4/30/19.

Accession Number: 20190430-5294.

Comments Due: 5 p.m. ET 5/21/19.

Docket Numbers: ER19-1727-000.

Applicants: Southwestern Public Service Company.

Description: § 205(d) Rate Filing: LP&L Production Template Update to be effective 6/1/2019.

Filed Date: 4/30/19.

Accession Number: 20190430-5314.

Comments Due: 5 p.m. ET 5/21/19.

Docket Numbers: ER19-1728-000.

Applicants: Wisconsin Public Service Corporation.

Description: Tariff Cancellation: Notice of Cancellation to be effective 4/1/2019.

Filed Date: 4/30/19.

Accession Number: 20190430-5326.

Comments Due: 5 p.m. ET 5/21/19.

Docket Numbers: ER19-1729-000.

Applicants: PJM Interconnection, L.L.C.

Description: § 205(d) Rate Filing: Amendment to Original WMPA SA No. 5095; Queue No. AB2-022 to be effective 5/21/2018.

Filed Date: 4/30/19.

Accession Number: 20190430-5340.

Comments Due: 5 p.m. ET 5/21/19.

Docket Numbers: ER19-1730-000.

Applicants: Wind Park Bear Creek, L.L.C.

Description: Baseline eTariff Filing: Rate Schedule for Reactive Supply and Voltage Control to be effective 6/29/2019.

Filed Date: 4/30/19.

Accession Number: 20190430-5373.

Comments Due: 5 p.m. ET 5/21/19.

Docket Numbers: ER19-1731-000.

Applicants: California Power Exchange Corporation.

Description: § 205(d) Rate Filing: Rate Filing for Rate Period 35 to be effective 7/1/2019.

Filed Date: 4/30/19.

Accession Number: 20190430-5380.

Comments Due: 5 p.m. ET 5/21/19.

Docket Numbers: ER19-1732-000.

Applicants: Talen Energy Marketing, LLC.

Description: § 205(d) Rate Filing: Market-Based Rate Tariff Revisions to be effective 5/1/2019.

Filed Date: 4/30/19.

Accession Number: 20190430-5386.

Comments Due: 5 p.m. ET 5/21/19.

Take notice that the Commission received the following qualifying facility filings:

Docket Numbers: QF19-1140-000.

Applicants: Chevron U.S.A. Inc.

Description: Form 556 of Chevron U.S.A. Inc. [Richmond Refinery STG-3640].

Filed Date: 4/30/19.

Accession Number: 20190430-5230.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2019.
Nathaniel J. Davis, Sr.,
Deputy Secretary.

[FR Doc. 2019-09194 Filed 5-3-19; 8:45 am]

BILLING CODE 6717-01-P